DEPARTMENT OF THE INTERIOR

Minerals Management Service

Outer Continental Shelf (OCS) Policy Committee of the Minerals Management Advisory Board; Notice and Agenda for Meeting

AGENCY: Minerals Management Service, Interior.

ACTION: Notice of Meeting.

SUMMARY: The OCS Policy Committee of the Minerals Management Advisory Board will meet at the Radisson Hotel Old Town in Alexandria, Virginia.

DATES: Wednesday, May 23 and Thursday, May 24, 2001, from 8:30 a.m. to 5 p.m.

ADDRESSES: The Radisson Hotel Old Town, 901 N. Fairfax Street, Alexandria, Virginia 22314, telephone (703) 683-6000.

FOR FURTHER INFORMATION CONTACT: Ms. Jeryne Bryant at Minerals Management Service, 381 Elden Street, Mail Stop 4001, Herndon, Virginia 20170-4187. She can be reached by telephone at (703) 787-1211 or by electronic mail at jeryne.bryant@mms.gov.

SUPPLEMENTARY INFORMATION: The OCS Policy Committee represents the collective viewpoint of coastal States, environmental interests, industry and other parties involved with the OCS Program. It provides policy advice to the Secretary of the Interior through the Director of the MMS on all aspects of leasing, exploration, development, and protection of OCS resources.

The agenda for May 23rd will cover the following principal subjects:

Report on the Vice President's Energy Task Force. This presentation will provide an update on the status of Vice President Cheney's Energy Task Force.

Recent Events Regarding Natural Gas Supply. This presentation will address the winter natural gas supply, the role of the natural gas supply in California, and the proposed Alaska pipeline.

Natural Gas Subcommittee Report. This presentation will provide an update on the activities of the Natural Gas Subcommittee that was established at the October 2000 meeting to assess the contribution that the OCS can make in meeting the short-term and long-term natural gas needs of the United States.

Energy Demands—States' Perspective. This presentation will address what the coastal States perceive their respective energy demand(s) will be over the next 5-10 years and the plans to deal with the demand(s).

Coastal Consistency—Final Regulations. This presentation will address Federal Coastal Zone Management consistency, including new regulations and reauthorization of the Coastal Zone Management Act.

The agenda for May 24th will cover the following principal subjects:

OCS Scientific Committee Update. This presentation will provide an update on the activities of the Scientific Committee. It will also highlight the activities that are related to energy issues/concerns, ocean issues, hard mineral activity, and any other topics that are relevant to both Committees.

Atlantic Region Update. This presentation will address the outcome of the Manteo litigation and contracts/statement of work for Atlantic studies.

Gulf of Mexico (GOM) Region—Panel Discussion. This presentation will address the status of Sale 181; GOM 5-year projection of production; floating production, storage and offloading systems; oil spill contingency plans; new technology in deep water and seismic surveying; and the GOM State Geologist Survey Consortium.

Next 5-Year Program. This presentation will address the next 5-Year Program and its implications.

Hard Minerals Update. This presentation will provide an update on subcommittee activities and other pertinent hard minerals information.

MMS Regional Updates. The Regional Directors will highlight activities off the California and Alaska coasts.

Ocean Activities. This presentation will address the status of the formation of the Oceans Commission and its composition; and the functions and ocean-related activities of the Consortium for Oceanographic Research and Education.

The meeting is open to the public. Approximately 100 visitors can be accommodated on a first-come-first-served basis.

Upon request, interested parties may make oral or written presentations to the OCS Policy Committee. Such requests should be made no later than May 11, 2001, to Jeryne Bryant. Requests to make oral statements should be accompanied by a summary of the statement to be made. Please see FOR FURTHER INFORMATION CONTACT section for address and telephone number.

Minutes of the OCS Policy Committee meeting will be available for public inspection and copying at the MMS in Herndon, Virginia.

Authority: Federal Advisory Committee Act, P.L. No. 92-463, 5 U.S.C. Appendix 1, and the Office of Management and Budget's Circular No. A-63, Revised.

Dated: April 26, 2001.
Carolita U. Kallaur,
Associate Director for Offshore Minerals Management.

[FR Doc. 01-10952 Filed 5-1-01; 8:45 am]

BILLING CODE 4310-MR-P